DEPARTMENT OF STATE

[Public Notice: 7396]

30-Day Notice of Proposed Information Collection: Performance Measurement, Evaluation and Public Diplomacy Program Surveys

ACTION: Notice of request for public comment and submission to OMB of proposed collection of information.

SUMMARY: The Department of State has submitted the following information collection request to the Office of Management and Budget (OMB) for approval in accordance with the Paperwork Reduction Act of 1995.

• Title of Information Collection: Performance Measurement, Evaluation and Public Diplomacy Program Surveys.

• OMB Control Number: 1405-0158.

• Type of Request: Extension of a Currently Approved Collection.

• Originating Office: Bureau of Educational and Cultural Affairs, Office of Policy and Evaluation, Evaluation Division (ECA/P/V).

• Form Number: SV-2008-0005, SV-2008-0006, SV-2008-0011, SV-2008-0012, SV-2008-0013, SV-2008-0007.

• Respondents: Participants in ECA and PD programs, selected users of PD products and services, and others engaged in DOS efforts.

• Estimated Number of Respondents: 25,131 annually.

• Estimated Number of Responses: 25,131 annually.

• Average Hours per Response: 30 minutes per response.

• Total Estimated Burden: 12,565 hours.

• Frequency: On occasion.

• Obligation to Respond: Voluntary.

DATES: Submit comments to the Office of Management and Budget (OMB) for up to 30 days from April 4, 2011.

ADDRESSES: Direct comments to the Department of State Desk Officer in the Office of Information and Regulatory Affairs at the Office of Management and Budget (OMB). You may submit comments by the following methods:

• E-mail: oira_submission@omb.eop.gov. You must include the DS form number, information collection title, and OMB control number in the subject line of your message.

• Fax: 202-395-5806. Attention: Desk Officer for Department of State.

FOR FURTHER INFORMATION CONTACT: You may obtain copies of the proposed information collection and supporting documents from Juliet Dulles, who may be reached on 202-632-3344 or at DullesJF@state.gov.

SUPPLEMENTARY INFORMATION: We are soliciting public comments to permit the Department to:

• Evaluate whether the proposed information collection is necessary to properly perform our functions.

• Evaluate the accuracy of our estimate of the burden of the proposed collection, including the validity of the methodology and assumptions used.

• Enhance the quality, utility, and clarity of the information to be collected.

• Minimize the reporting burden on those who are to respond,

Abstract of Proposed Collection

The Department of State is requesting an extension of the currently approved clearance for performance measurement, evaluation and customer satisfaction surveys. Included in this request is a collection of questions designed to measure and evaluate the performance of programs, products and services provided by the Bureau of Educational and Cultural Affairs (ECA), the Bureau of International Information Programs (IIP), and the Office of the Under Secretary for Public Diplomacy and Public Affairs, Office of Policy, Planning and Resources (R/PPR).

Methodology

More than 95% of the data collection uses electronic collection techniques. Technology is used in nearly every survey in which safety, security, programmatic, cultural or political concerns are not of sufficient magnitude to pose a negative impact on the respondent. Survey instruments are distributed via web-based or e-mail technology in PDF format, allowing the respondent to complete the survey and return it anytime during the survey period.

Additional Information: None.

Dated: March 25, 2011.
Larry Schwartz,
Director, Policy, Planning and Resources (R/PPR), U.S. Department of State.

[FR Doc. 2011-7931 Filed 4-1-11; 8:45 am]

BILLING CODE 4710-05-P